DEPARTMENT OF THE TREASURY

Submission for OMB Review; Comment Request

December 1, 2009.

The Department of Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 6, 2010 to be assured of consideration.

Bureau of Public Debt (BPD)

OMB Number: 1535-0009.

Type of Review: Extension.

Title: Request to Reissue U.S. Savings Bonds to a Personal Trust.

Form: PD F 1851 E.

Description: Used to request reissue of savings bonds in the name of a trustee of a personal trust estate.

Respondents: Individuals or Households.

Estimated Total Burden Hours: 12,500 hours.

OMB Number: 1535-0104.

Type of Review: Extension.

Title: Application by survivors for payment of bond or check issued under Armed Forces Leave Act of 1946.

Form: PD F 2066 E.

Description: Used by survivors for payment of bonds issued under Armed Forces Leave Act of 1946.

Respondents: Individuals or Households .

Estimated Total Burden Hours: 75 hours.

OMB Number: 1535-0105.

Type of Review: Extension.

Title: App. for recognition as natural guardian of minor not under legal guardianship & disposition of securities.

Form: PD-F-2481.

Description: Used by natural guardian of minor to request disposition of securities.

Respondents: Individuals or Households.

Estimated Total Burden Hours: 5 hours.

Clearance Officer: Judi Owens, (304) 480-8150, Bureau of the Public Debt, 200 Third Street, Parkersburg, West Virginia, 26106.

OMB Reviewer: Shagufta Ahmed, (202) 395-7873, Office of Management and Budget, Room 10235, New Executive Office Building, Washington, DC 20503.

Celina Elphage,
Treasury PRA Clearance Officer.

[FR Doc. E9-29029 Filed 12-4-09; 8:45 am]

BILLING CODE 4810-39-P